Title 3—

The President

Proclamation 10696 of January 12, 2024

Martin Luther King, Jr., Federal Holiday, 2024

By the President of the United States of America

A Proclamation

Today, we reflect on the life and legacy of Reverend Dr. Martin Luther King, Jr. and recommit to honoring his moral vision on the path to redeeming the soul of our Nation.

Dr. Martin Luther King, Jr. was born into America when racial segregation was the law of the land. He had every reason to believe that history had already been written and division would be our Nation's destiny. But Dr. King rejected that outcome. He heard Scripture's command to do justice, love mercy, and walk humbly. He clung to the Declaration of Independence's promise of equality for all people.

Dr. King's mission was a moral one: from bridges and ballot boxes to pulpits, protests, and courthouses, he courageously stood for the sacred idea that embodies the soul of our Nation—we are all created equal in the image of God and deserve to be treated equally throughout our lives. He vocalized that idea on an August day in 1963 when he told our Nation about his dream. He saw that idea realized for many Americans with the passage of the Civil Rights Act of 1964 and the Voting Rights Act of 1965, ushering in a new era of greater equality and opportunity in our country. That work is not yet finished. It is the task of our time to take up Dr. King's mantle and make his dream a reality.

The battle for the soul of our Nation is perennial—a constant struggle between hope and fear, kindness and cruelty, and justice and injustice. There are still those who seek to thwart progress and roll back our rights as Americans. But Dr. King and countless crusaders across the span of American history teach us that each generation must answer the call to perfect our Union. We must heed the whispers of our better angels. We must see each other as neighbors and not enemies. We must do our best to seek a life of light, hope, and truth. Because nothing is guaranteed about our democracy. We must fight to keep, defend, and protect it.

On this day, may we recommit to being guided by Dr. King's light and by the charge of Scripture: “Let us never grow weary in doing what is right, for if we do not give up, we will reap our harvest in due time.” We must continue Dr. King's march forward by choosing democracy over autocracy and a “Beloved Community” over chaos. We must be believers, doers, and, most of all, dreamers. We must be repairers of the breach and remember that the power to redeem the soul of America lies in all of us—“We the People.”

NOW, THEREFORE, I, JOSEPH R. BIDEN JR., President of the United States of America, by virtue of the authority vested in me by the Constitution and the laws of the United States, do hereby proclaim Monday, January 15, 2024, as the Martin Luther King, Jr., Federal Holiday. I encourage all Americans to observe this day with appropriate civic, community, and service projects in honor of Dr. King and to visit MLKDay.gov to find Martin Luther King, Jr., Day of Service projects across our country.

IN WITNESS WHEREOF, I have hereunto set my hand this twelfth day of January, in the year of our Lord two thousand twenty-four, and of the Independence of the United States of America the two hundred and forty-eighth.

[FR Doc. 2024-01114

Filed 1-18-24; 8:45 am]

Billing code 3395-F4-P